DEPARTMENT OF AGRICULTURE

Rural Utilities Service

Announcement of Solicitation of Applications and Grant Application Deadlines

AGENCY: Rural Utilities Service, USDA.

ACTION: Notice of Solicitation of Applications.

SUMMARY: The United States Department of Agriculture (USDA) Rural Development administers rural utilities programs through the Rural Utilities Service. USDA Rural Development announces its Distance Learning and Telemedicine (DLT) grant program application window for Fiscal Year (FY) 2009 subject to the availability of funding. This notice is being issued prior to passage of a final appropriations act to allow potential applicants time to submit proposals and give the Agency time to process applications within the current fiscal year. USDA Rural Development will publish a subsequent notice identifying the amount received in the final appropriations act, if any. Expenses incurred in developing applications will be at the applicant's risk. For FY 2008, Congress appropriated approximately $30 million.

In addition to announcing the application window, the Agency announces the minimum and maximum amounts for DLT grants applicable for the fiscal year. Finally, the Agency notes that the Food, Conservation, and Energy Act of 2008, in order to clearly establish that libraries are eligible to be recipients of DLT Loans and Grants, expressly added the category of libraries under Sec. 2333 (c)(1) of the Food, Agriculture, Conservation, and Trade Act of 1990 (7 U.S.C. Sec. 950aaa-2(a)(1)). This confirms longstanding Agency policy of considering libraries to be eligible entities under the DLT Program.

DATES: You may submit completed applications for grants on paper or electronically according to the following deadlines:

• Paper copies must be postmarked and mailed, shipped, or sent overnight no later than March 24, 2009 to be eligible for FY 2009 grant funding. Late or incomplete applications will not be eligible for FY 2009 grant funding.

• Electronic copies must be received by March 24, 2009 to be eligible for FY 2009 grant funding. Late or incomplete applications will not be eligible for FY 2009 grant funding.

ADDRESSES: Copies of the FY 2009 application guides and materials for the DLT grant program may be obtained at the following sources: (1) The DLT Web site: http://www.usda.gov/rus/telecom/dlt/dlt.htm, and (2) Contacting the DLT Program at 202-720-0413.

Paper applications are to be submitted to the USDA Rural Development, Telecommunications Program, 1400 Independence Ave., SW., Room 2845, STOP 1550, Washington, DC 20250-1550. Applications should be marked “Attention: Director, Advanced Services Division.”

Electronic applications may be submitted through Grants.gov. Information on how to submit applications electronically is available on the Grants.gov Web site (http://www.grants.gov). Applicants must successfully pre-register with Grants.gov to use the electronic applications option. Application information may be downloaded from Grants.gov without preregistration.

FOR FURTHER INFORMATION CONTACT: Director, Advanced Services Division, Telecommunications Programs, USDA Rural Development. Telephone: 202-720-0413, fax: 202-720-1051.

SUPPLEMENTARY INFORMATION:

Overview

Federal Agency: Rural Utilities Service (RUS).

Funding Opportunity Title: Distance Learning and Telemedicine Grants.

Announcement Type: Initial announcement.

Catalog of Federal Domestic Assistance (CFDA) Number: 10.855.

Dates: You may submit completed applications for grants on paper or electronically according to the following deadlines:

• Paper copies must be postmarked and mailed, shipped, or sent overnight no later than March 24, 2009 to be eligible for FY 2009 grant funding. Late or incomplete applications are not eligible for FY 2009 grant funding.

• Electronic copies must be received by March 24, 2009 to be eligible for FY 2009 grant funding. Late or incomplete applications are not eligible for FY 2009 grant funding.

Items in Supplementary Information

I. Funding Opportunity: Brief introduction to the DLT program.

II. Minimum and Maximum Application Amounts: Projected Available Funding.

III. Eligibility Information: Who is eligible, what kinds of projects are eligible, what criteria determine basic eligibility.

IV. Application and Submission Information: Where to get application materials, what constitutes a completed application, how and where to submit applications, deadlines, items that are eligible.

V. Application Review Information: Considerations and preferences, scoring criteria, review standards, selection information.

VI. Award Administration Information: Award notice information, award recipient reporting requirements.

VII. Agency Contacts: Web, phone, fax, e-mail, contact name.

I. Funding Opportunity

Distance learning and telemedicine grants are specifically designed to provide access to education, training and health care resources for people in rural America. The Distance Learning and Telemedicine (DLT) Program provides financial assistance to encourage and improve telemedicine services and distance learning services in rural areas through the use of telecommunications, computer networks, and related advanced technologies to be used by students, teachers, medical professionals, and rural residents.

The grants, which are awarded through a competitive process, may be used to fund telecommunications-enabled information, audio and video equipment and related advanced technologies which extend educational and medical applications into rural locations. Grants are made for projects where the benefit is primarily delivered to end users that are not at the same location as the source of the education or health care service.

As in years past, the FY 2009 grant application guide has been changed to reflect recent changes in technology and application trends. Details of changes from the FY 2008 application guide are highlighted throughout this Notice and are described in full in the FY 2009 application guide. All applicants must carefully review and exactly follow the FY 2009 application guide and sample materials when compiling a DLT grant application.

II. Maximum and Minimum Amount of Applications

The Administrator has determined the maximum amount of an application for a 100% grant in FY 2009 is $500,000 and the minimum amount of a grant is $50,000.

The Agency will make awards and execute documents appropriate to the project after an appropriations bill has been enacted for FY 2009 and prior to any advance of funds to successful applicants.

DLT grants cannot be renewed. Award documents specify the term of each award. The Agency will make awards and execute documents appropriate to the project prior to any advance of funds to successful applicants. Applications to enlarge existing projects are welcomed (100% grant applications must be submitted during the application window) and will be evaluated as new applications.

III. Eligibility Information

A. Who is eligible for grants? (See 7 CFR 1703.103.)

1. Only entities legally organized as one of the following are eligible for DLT financial assistance:

a. An incorporated organization or partnership,

b. An Indian tribe or tribal organization, as defined in 25U.S.C. 450b (b) and (c),

c. A state or local unit of government,

d. A consortium, as defined in 7 CFR 1703.102, or

e. Other legal entity, including a private corporation organized on a for-profit or not-for-profit basis.

2. Individuals are not eligible for DLT program financial assistance directly.

3. Electric and telecommunications borrowers under the Rural Electrification Act of 1936 (7 U.S.C. 950aaa et seq.) are not eligible for grants.

B. What are the basic eligibility requirements for a project?

1. Required matching contributions for grants: See 7 CFR 1703.125(g) and the FY 2009 application guide for information on required matching contributions.

a. Grant applicants must demonstrate matching contributions, in cash or in kind (new, non-depreciated items), of at least fifteen (15) percent of the total amount of financial assistance requested. Matching contributions must be used for eligible purposes of DLT grant assistance (see 7 CFR 1703.121, paragraphs IV.G.1.b of this Notice and the FY 2009 application guide).

b. Greater amounts of eligible matching contributions may increase an applicant's score (see 7 CFR 1703.126(b)(4), paragraph V.B.2.d of this notice, and the FY 2009 application guide).

c. Applications that do not provide evidence of the required fifteen percent match will be declared ineligible and returned. See paragraphs IV.G.1.c and V.B.2.d of this Notice, and the FY 2009 application guide for specific information on documentation of matching contributions.

d. Applications that do not document all matching contributions in form and substance satisfactory to the Agency as described in the application guide are subject to budgetary adjustment by the Agency, which may result in rejection of an application as ineligible due to insufficient match.

3. The DLT grant program is designed to flow the benefits of distance learning and telemedicine to residents of rural America (see 7 CFR 1703.103(a)(2)). Therefore, in order to be eligible, applicants must:

a. Operate a rural community facility; or

b. Deliver distance learning or telemedicine services to entities that operate a rural community facility or to residents of rural areas, at rates calculated to ensure that the benefit of the financial assistance is passed through to such entities or to residents of rural areas.

4. Rurality.

a. All projects proposed for DLT grant assistance must meet a minimum rurality threshold, to ensure that benefits from the projects flow to rural residents. The minimum eligibility score is 20 points. Please see Section IV of this notice, 7 CFR 1703.126(a)(2), and the FY 2009 application guide for an explanation of the rurality scoring and eligibility criterion.

b. Each application must apply the following criteria to each of its end-user sites, and hubs that are also proposed as end-user sites, in order to determine a rurality score. The rurality score is the average of all end-user sites' rurality scores.

Criterion | Character | Population | DLT points
Exceptionally Rural Area | Area not within an Urbanized Area or Urban Cluster | ≤5000 | 45
Rural Area | Area in an Urban Cluster | > 5000 and ≤ 10,000 | 30
Mid-Rural Area | Area in an Urban Cluster | >10,000 and ≤ 20,000 | 15
Urban Area | Area in an Urbanized Area or Urban Cluster | > 20,000 | 0

c. The rurality score is one of the competitive scoring criteria applied to grant applications.

4. Projects located in areas covered by the Coastal Barrier Resources Act (16 U.S.C. 3501 et seq.) are not eligible for financial assistance from the DLT Program. Please see 7 CFR 1703.123(a)(11), 7 CFR 1703.132(a)(5), and 7 CFR 1703.142(b)(3).

C. See Section IV of this Notice and the FY 2009 application guide for a discussion of the items that make up a complete application. For requirements of completed applications you may also refer to 7 CFR 1703.125 for grant applications. The FY 2009 application guide provides specific, detailed instructions for each item that constitutes a complete application. The Agency strongly emphasizes the importance of including every required item (as explained in the FY 2009 application guide) and strongly encourages applicants to follow the instructions carefully, using the examples and illustrations in the FY 2009 application guide. Applications which do not include all items that determine project eligibility and applicant eligibility by the application deadline will be returned as ineligible. Scoring and eligibility information will not be solicited or considered by the Agency after the application deadline. Applications that do not include all items necessary for scoring will be scored as is. Please see the FY 2009 application guide for a full discussion of each required item and for samples and illustrations.

IV. Application and Submission Information

A. Where to get application information. FY 2009 application guides, copies of necessary forms and samples, and the DLT Program regulation are available from these sources:

1. The Internet: http://www.usda.gov/rus/telecom/dlt/dlt.htm.

2. The DLT Program for paper copies of these materials: 202-720-0413.

B. What's new for FY 2009?

1. As in FY 2008, applicants are again reminded that end user sites are rural facilities. See 7 CFR 1703.102, Definitions, “End User” and “End User Site”. We have experienced an increase in the number of applications which attempt to include urban educational and medical facilities as end user sites. Urban facilities can serve as hub sites, but not end user sites. For projects with non-fixed end user sites, only those end user sites outside urban areas can be funded. The FY 2009 application guide contains clarifying language to elaborate on this provision of the regulation.

2. If a grant application includes a site that is included in any other DLT grant application for FY 2009, or a site that has been included in any DLT grant funded in FY 2008 or FY 2007, the application should contain a detailed explanation of the related applications or grants. The Agency must make a nonduplication finding for each grant approved, and apparent but unexplained duplication of funding for a site can prevent such a finding.

C. What constitutes a completed application?

1. For DLT Grants:

a. Detailed information on each item in the table in paragraph IV.C.1.f. of this Notice can be found in the sections of the DLT Program regulation listed in the table, and the DLT grant application guide. Applicants are strongly encouraged to read and apply both the regulation and the applications guide, which elaborates and explains the regulation.

(1). When the table refers to a narrative, it means a written statement, description or other written material prepared by the applicant, for which no form exists. The Agency recognizes that each project is unique and requests narratives to allow applicants to explain their request for financial assistance.

(2). When documentation is requested, it means letters, certifications, legal documents or other third-party documentation that provide evidence that the applicant meets the listed requirement. For example, to confirm Enterprise Zone (EZ) designations, applicants use printouts from the official USDA Web site. Leveraging documentation generally will be letters of commitment from the funding sources. In-kind matches must be items purchased after the application deadline date that are essential to the project and documentation from the donor must demonstrate the relationship of each item to the project's function. Evidence of legal existence is sometimes proven by submitting articles of incorporation. None of the foregoing examples is intended to limit the types of documentation that must be submitted to fulfill a requirement. DLT Program regulations and the application guide provide specific guidance on each of the items in the table.

b. The DLT application guide and ancillary materials provide all necessary sample forms and worksheets.

c. While the table in paragraph IV.C.1.f of this Notice includes all items of a completed application, the Agency may ask for additional or clarifying information for applications which, as submitted by the deadline, appear to clearly demonstrate that they meet eligibility requirements. The Agency will not solicit or accept eligibility or scoring information submitted after the application deadline.

d. Submit the required application items in the order provided in the FY 2009 application guide. The FY 2009 application guide specifies the format and order of all required items. Applications that are not assembled and tabbed in the order specified prevent timely determination of eligibility. Given the high volume of program interest, incorrectly assembled applications, and applications with inconsistency among submitted copies, will be returned as ineligible.

e. DUNS Number. As required by the OMB, all applicants for grants must supply a Dun and Bradstreet Data Universal Numbering System (DUNS) number when applying. The Standard Form 424 (SF-424) contains a field for you to use when supplying your DUNS number. Obtaining a DUNS number costs nothing and requires a short telephone call to Dun and Bradstreet. Please see http://www.grants.gov/applicants/request_duns_number.jsp for more information on how to obtain a DUNS number or how to verify your organization's number.

f. Compliance with other federal statutes. The applicant must provide evidence of compliance with other federal statutes and regulations, including, but not limited to the following:

(i) 7 CFR part 15, subpart A—Nondiscrimination in Federally Assisted Programs of the Department of Agriculture—Effectuation of Title VI of the Civil Rights Act of 1964.

(ii) 7 CFR part 3015—Uniform Federal Assistance Regulations.

(iii) 7 CFR part 3017—Governmentwide Debarment and Suspension (Non-procurement).

(iv) 7 CFR part 3018—New Restrictions on Lobbying.

(v) 7 CFR part 3021—Governmentwide Requirements for Drug-Free Workplace.

g. Table of Required Elements of a Completed Grant Application.

Application item | Required items: Grants (7 CFR 1703.125 and CFR 1703.126) | Required items: Comment
SF-424 (Application for Federal Assistance form) | Yes | Completely filled out.
Site Worksheet | Yes | Agency worksheet.
Survey on Ensuring Equal Opportunity for Applicants | Optional | OMB Form.
Evidence of Legal Authority to Contract with the Government | Yes | Documentation.
Evidence of Legal Existence | Yes | Documentation.
Executive Summary | Yes | Narrative.
Telecommunications System Plan and Scope of Work | Yes | Narrative & documentation such as maps and diagrams.
Budget | Yes | Agency Worksheets with documentation.
Financial Information/Sustainability | Yes | Narrative.
Statement of Experience | Yes | Narrative 3-page, single-spaced limit.
Rurality Worksheet | Yes | Agency worksheet with documentation.
National School Lunch Program (NSLP) Worksheet | Yes | Agency worksheet with documentation.
Leveraging Evidence and Funding Commitments from all Sources | Yes | Agency worksheet and source documentation.
EZ/EC or Champion Communities designation | Yes | Documentation.
Request for Additional NSLP | Optional | Agency Worksheet and narrative.
Need for and Benefits derived from Project | Yes | Narrative & documentation.
Innovativeness of the Project | Yes | Narrative & documentation.
Cost Effectiveness of Project | Yes | Narrative & documentation.
Consultation with the USDA State Director, Rural Development, and evidence that application conforms to State Strategic Plan, if any | Yes | Documentation.
Certifications:
Equal Opportunity and Nondiscrimination | Yes | Recommend using Agency's sample form.
Architectural Barriers | Yes | Recommend using Agency's sample form.
Flood Hazard Area Precautions | Yes | Recommend using Agency's sample form.
Uniform Relocation Assistance and Real Property Acquisition Policies Act of 1970 | Yes | Recommend using Agency's sample form.
Drug-Free Workplace | Yes | Recommend using Agency's sample form.
Debarment, Suspension, and Other Responsibility Matters—Primary Covered Transactions | Yes | Recommend using Agency's sample form.
Lobbying for Contracts, Grants, Loans, and Cooperative Agreements | Yes | Recommend using Agency's sample form.
Non Duplication of Services | Yes | Recommend using Agency's sample form.
Environmental Impact/Historic Preservation Certification | Yes | Recommend using Agency's sample form.

D. How many copies of an application are required?

1. Applications submitted on paper.

a. Submit the original application and two (2) copies to USDA Rural Development.

b. Submit one (1) additional copy to the state government single point of contact (SPOC) (if one has been designated) at the same time as you submit the application to the Agency. See http://www.whitehouse.gov/omb/grants/spoc.html for an updated listing of State government single points of contact.

2. Electronically submitted applications. Grant applications may be submitted electronically. Please carefully read the FY 2009 application guide for guidance on submitting an electronic application. In particular, we ask that you identify and number each page in the same way you would a paper application so that we can assemble them as you intended.

a. The additional paper copies are not necessary if you submit the application electronically through Grants.gov.

b. Submit one (1) copy to the state government single point of contact (if one has been designated) at the same time as you submit the application to the Agency. See http://www.whitehouse.gov/omb/grants/spoc.html for an updated listing of State government single points of contact.

E. How and where to submit an application. Grant applications may be submitted on paper or electronically.

1. Submitting applications on paper.

a. Address paper applications to the Telecommunications Program, USDA Rural Development, United States Department of Agriculture, 1400 Independence Ave., SW., Room 2845, STOP 1550, Washington, DC 20250-1550. Applications should be marked “Attention: Director, Advanced Services Division.”

b. Paper grant applications must show proof of mailing or shipping by the deadline consisting of one of the following:

(i) A legibly dated U.S. Postal Service (USPS) postmark;

(ii) A legible mail receipt with the date of mailing stamped by the USPS; or

(iii) A dated shipping label, invoice, or receipt from a commercial carrier.

c. Due to screening procedures at the Department of Agriculture, packages arriving via regular mail through the USPS are irradiated, which can damage the contents and delay delivery to the DLT Program. USDA Rural Development encourages applicants to consider the impact of this procedure in selecting their application delivery method.

2. Electronically submitted applications.

a. Applications will not be accepted via fax or electronic mail.

b. Electronic applications for grants will be accepted if submitted through the Federal government's Grants.gov initiative at http://www.grants.gov.

c. How to use Grants.gov.

(i) Grants.gov contains full instructions on all required passwords, credentialing and software.

(ii) Central Contractor Registry. Submitting an application through Grants.gov requires that you list your organization in the Central Contractor Registry (CCR). Setting up a CCR listing takes up to five business days, so the Agency strongly recommends that you obtain your organization's DUNS number and CCR listing well in advance of the deadline specified in this notice.

(iii) Credentialing and authorization of applicants. Grants.gov will also require some credentialing and online authentication procedures. These procedures may take several business days to complete, further emphasizing the need for early action by applicants to complete the sign-up, credentialing and authorization procedures at Grants.gov before you submit an application at that Web site.

(iv) Some or all of the CCR and Grants.gov registration, credentialing and authorizations require updates. If you have previously registered at Grants.gov to submit applications electronically, please ensure that your registration, credentialing and authorizations are up to date well in advance of the grant application deadline.

d. USDA Rural Development encourages applicants who wish to apply through Grants.gov to submit their applications in advance of the deadlines.

e. If a system problem occurs or you have technical difficulties with an electronic application, please use the customer support resources available at the Grants.gov Web site.

F. Deadlines.

1. Paper grant applications must be postmarked and mailed, shipped, or sent overnight no later than March 24, 2009, to be eligible for FY 2009 grant funding. Late applications, applications which do not include proof of mailing or shipping as described in paragraph IV.E.b., and incomplete applications are not eligible for FY 2009 grant funding.

2. Electronic grant applications must be received by March 24, 2009, to be eligible for FY 2009 funding. Late or incomplete applications will not be eligible for FY 2009 grant funding.

F. Intergovernmental Review. The DLT grant program is subject to Executive Order 12372, “Intergovernmental Review of Federal Programs.” As stated in paragraph IV.D.1. of this Notice, a copy of a DLT grant application must be submitted to the state single point of contact if one has been designated. Please see http://www.whitehouse.gov/omb/grants/spoc.html to determine whether your state has a single point of contact.

G. Funding Restrictions.

1. Eligible purposes.

a. For grants, rural end-user sites may receive financial assistance; hub sites (rural or non-rural) may also receive financial assistance if they are necessary to provide DLT services to end-user sites. Please see the application guide and 7 CFR 1703.101(h).

b. To fulfill the policy goals laid out for the DLT Program in 7 CFR 1703.101, the following table lists purposes for financial assistance and whether each purpose is generally considered to be eligible for the form of financial assistance. Please consult the FY 2009 application guide and the regulations (7 CFR 1703.102 for definitions, in combination with the portions of the regulation cited in the table) for detailed requirements for the items in the table. Rural Development strongly recommends that applicants exclude ineligible items from the grant and match portions of grant application budgets. However, some items ineligible for funding or matching contributions may be vital to the project. Rural Development encourages applicants to document those costs in the application's budget. Please see the FY 2009 application guide for a recommended budget format, and detailed budget compilation instructions.

| Grants
Lease or purchase of eligible DLT equipment and facilities | Yes, equip. only.
Acquire instructional programming | Yes.
Technical assistance, develop instructional programming, engineering or environmental studies | Yes, up to 10% of the grant.
Medical or education equipment or facilities necessary to the project | Yes.
Vehicles using distance learning or telemedicine technology to deliver services | No.
Teacher-student links located at the same facility | No.
Links between medical professionals located at the same facility | No.
Site development or building alteration | No.
Land of building purchase | No.
Building Construction | No.
Acquiring telecommunications transmission facilities | No.
Internet services, telecommunications services or other forms of connectivity | No.
Salaries, wages, benefits for medical or educational personnel | No.
Salaries or administrative expenses of applicant or project | No.
Recurring project costs or operating expenses | No, (equipment & facility leases are not recurring project costs).
Internet services, telecom services, and other forms of connectivity | No.
Equipment to be owned by the LEC or other telecommunications service provider, if the provider is the applicant | No.
Duplicative distance learning or telemedicine services | No.
Any project that for its success, depends on additional DLT financial assistance or other financial assistance that is not assured | No.
Application Preparation Costs | No.
Other project costs not in regulation | No.
Cost of facilities providing distance learning broadcasting. (amount) | No.
Reimburse applicants of others for costs incurred prior to USDA RURAL DEVELOPMENT receipt of completed application | No.

c. Discounts. The DLT Program regulation has long stated that manufacturers' and service providers' discounts are not eligible matches. The Agency will not consider as eligible any proposed match from a vendor, manufacturer, or service provider whose products or services will be used in the DLT project as described in the application. In recent years, the Agency has noted a trend of vendors, manufacturers and other service providers offering their own products and services as in-kind matches for a project when their products or services will also be purchased with either grant or cash match funds for that project. Such activity is a discount and is therefore not an eligible match. Similarly, if a vendor, manufacturer or other service provider proposes a cash match (or any in-kind match) when their products or services will be purchased with grant or match funds, such activity is a discount and is not an eligible match. The Agency actively discourages such matching proposals and will adjust budgets as necessary to remove any such matches, which may reduce an application's score or result in the application's ineligibility due to insufficient match.

2. Eligible Equipment & Facilities. Please see the FY 2009 application guide supplies a wealth of information and examples of eligible and ineligible items. In addition, see 7 CFR 1703.102 for definitions of eligible equipment, eligible facilities and telecommunications transmission facilities as used in the table above.

3. Apportioning budget items. Many DLT applications propose to use items for a blend of specific DLT eligible project purposes and other purposes. Rural Development will now fund such items, if the applicants attribute the proportion (by percentage of use) of the costs of each item to the project's DLT purpose or to other purposes to enable consideration for a grant of the portion of the item that is for DLT usage. See the FY 2009 application guide for detailed information on how to apportion use and apportioning illustrations.

V. Application Review Information

A. Special considerations or preferences.

1. American Samoa, Guam, Virgin Islands, and Northern Mariana Islands applications are exempt from the matching requirement up to a match amount of $200,000 (see 48 U.S.C. 1469a; 91 Stat. 1164).

2. 7 CFR 1703.112 directs that Rural Development Telecommunications Borrowers receive expedited consideration of a loan application or advance under the Rural Electrification Act of 1936 (7 U.S.C. 901-950aa, et seq.) if the loan funds in question are to be used in conjunction with a DLT grant (See 7 CFR 1737 for loans and 7 CFR 1744 for advances).

B. Criteria.

1. Grant application scoring criteria (total possible points: 225). See 7 CFR 1703.125 for the items that will be reviewed during scoring, and 7 CFR 1703.126 for scoring criteria.

2. Grant applications are scored competitively subject to the criteria listed below.

a. Rurality of the proposed service area (up to 45 points).

b. Percentage of students eligible for the NSLP in the proposed service area (objectively demonstrates economic need of the area) (up to 35 points).

c. Leveraging resources above the required matching level (up to 35 points). Please see paragraph III.B of this Notice for a brief explanation of matching contributions.

d. Project overlap with Empowerment Zone, Enterprise Communities or Champion Communities designations (up to 15 points).

e. Need for services proposed in the application, and the benefits that will be derived if the application receives a grant (up to 55 points).

(i) Up to 10 of the possible 55 possible points are to recognize economic need not reflected in the project's National School Lunch Program (NSLP) score, and can be earned only by applications whose overall NSLP eligibility is less than 50%. To be eligible to receive points under this, the application must include an affirmative request for consideration of the possible 10 points, and compelling documentation of reasons why the NSLP eligibility percentage does not represent the economic need of the proposed project beneficiaries.

(ii) Up to 45 of the 55 possible points under this criterion are available to all applicants. Points are awarded based on the required narrative crafted by the applicant. Rural Development encourages applicants to carefully read the cited portions of the Program regulation and the FY 2009 application guide for full discussions of this criterion.

f. Level of innovation demonstrated by the project (up to 15 points).

g. System cost-effectiveness (up to 35 points).

C. Grant Review standards.

1. In addition to the scoring criteria that rank applications against each other, the Agency evaluates grant applications for possible awards on the following items, according to 7 CFR 1703.127:

a. Financial feasibility.

b. Technical considerations. If the application contains flaws that would prevent the successful implementation, operation or sustainability of a project, the Agency will not award a grant.

c. Other aspects of proposals that contain inadequacies that would undermine the ability of the project to comply with the policies of the DLT Program.

2. Applications which do not include all items that determine project eligibility and applicant eligibility by the application deadline will be returned as ineligible. Applications that do not include all items necessary for scoring will be scored as is. Please see the FY 2009 application guide for a full discussion of each required item and for samples and illustrations. The Agency will not solicit or consider eligibility or scoring information submitted after the application deadline.

3. The FY 2009 grant application guide specifies the format and order of all required items. Applications that are not assembled and tabbed in the order specified and incorrectly assembled applications will be returned as ineligible.

4. Most DLT grant projects contain numerous project sites. The Agency requires that site information be consistent throughout an application. Sites must be referred to by the same designation throughout all parts of an application. The Agency has provided a site worksheet that requests the necessary information, and can be used as a guide by applicants. Rural Development strongly recommends that applicants complete the site worksheet, listing all requested information for each site. Applications without consistent site information will be returned as ineligible.

5. DLT grant applications which have non-fixed end-user sites, such as ambulance and home health care services, are now scored using a simplified scoring method that finds the relative rurality of the applicant's service area. See the FY 2009 application guide for specific guidance on this method of scoring. When an application contains non-fixed sites, it must be scored using the non-fixed site scoring method.

D. Selection Process.

1. Grants. Applications are ranked by final score, and by application purpose (education or medical). Rural Development selects applications based on those rankings, subject to the availability of funds. USDA Rural Development may allocate grant awards between medical and educational purposes, but is not required to do so. In addition, Rural Development has the authority to limit the number of applications selected in any one state, or for one project, during a fiscal year. See 7 CFR 1703.127.

VI. Award Administration Information

A. Award Notices.

Rural Development generally notifies applicants whose projects are selected for awards by faxing an award letter. Rural Development follows the award letter with an agreement that contains all the terms and conditions for the grant. Rural Development recognizes that each funded project is unique, and therefore may attach conditions to different projects' award documents. An applicant must execute and return the agreement, accompanied by any additional items required by the agreement, within the number of days shown in the selection notice letter.

B. Administrative and National Policy Requirements: The items listed in Section IV of this notice, and the DLT Program regulation, FY 2009 application guide and accompanying materials implement the appropriate administrative and national policy requirements.

C. Reporting.

1. Performance reporting. All recipients of DLT financial assistance must provide annual performance activity reports to Rural Development until the project is complete and the funds are expended. A final performance report is also required; the final report may serve as the last annual report. The final report must include an evaluation of the success of the project in meeting DLT Program objectives. See 7 CFR 1703.107.

2. Financial reporting. All recipients of DLT financial assistance must provide an annual audit, beginning with the first year a portion of the financial assistance is expended. Audits are governed by United States Department of Agriculture audit regulations. Please see 7 CFR 1703.108.

3. Record Keeping and Accounting. The grant contract will contain provisions relating to record keeping and accounting requirements.

VII. Agency Contacts

A. Web site: http://www.usda.gov/rus/telecom/dlt/dlt.htm. The DLT Web site maintains up-to-date resources and contact information for DLT programs.

B. Phone: 202-720-0413.

C. Fax: 202-720-1051.

D. E-mail: dltinfo@usda.gov.

E. Main point of contact: Director, Advanced Services Division, Telecommunications Program, USDA Rural Development.

Dated: December 18, 2008.
Curtis M. Anderson,
Deputy Administrator, Rural Utilities Service.

[FR Doc. E8-30759 Filed 12-23-08; 8:45 am]

BILLING CODE 3410-15-P